DEPARTMENT OF ENERGY

Federal Energy Regulatory Commission

Combined Notice of Filings

Take notice that the Commission has received the following Natural Gas Pipeline Rate and Refund Report filings:

Filing Instituting Proceedings

Docket Numbers: RP15-1237-000.

Applicants: Venice Gathering System, L.L.C.

Description: § 4(d) rate filing per 154.312: Filing to Change Rates to be effective 10/1/2015.

Filed Date: 8/31/15.

Accession Number: 20150831-5329.

Comments Due: 5 p.m. ET 9/14/15.

Docket Numbers: RP15-1250-000.

Applicants: Midcontinent Express Pipeline LLC.

Description: § 4(d) rate filing per 154.204: Devon Gas' Negotiated Rate to be effective 10/1/2015.

Filed Date: 9/2/15.

Accession Number: 20150902-5110.

Comments Due: 5 p.m. ET 9/14/15.

Docket Numbers: RP15-1251-000.

Applicants: Northern Natural Gas Company.

Description: § 4(d) rate filing per 154.204: 20150902 Pooling Service Revisions to be effective 11/1/2015.

Filed Date: 9/2/15.

Accession Number: 20150902-5112.

Comments Due: 5 p.m. ET 9/14/15.

Docket Numbers: RP15-1252-000.

Applicants: Columbia Gas Transmission, LLC.

Description: § 4(d) rate filing per 154.601: Negotiated Rate & Non-Conforming ESE-SWN Energy to be effective 10/1/2015.

Filed Date: 9/2/15.

Accession Number: 20150902-5230.

Comments Due: 5 p.m. ET 9/14/15.

Docket Numbers: RP15-1253-000.

Applicants: Columbia Gas Transmission, LLC.

Description: § 4(d) rate filing per 154.601: Negotiate Rate & Non Conforming ESE-SJR & Cabot to be effective 10/1/2015.

Filed Date: 9/2/15.

Accession Number: 20150902-5246.

Comments Due: 5 p.m. ET 9/14/15.

Docket Numbers: RP15-1254-000.

Applicants: Gulf Crossing Pipeline Company LLC.

Description: § 4(d) rate filing per 154.204: Neg Rate Agmt and Cap Rel Neg Rate Agmt (Vanguard 1727 to Tenaska 1738) to be effective 6/1/2015.

Filed Date: 9/3/15.

Accession Number: 20150903-5050.

Comments Due: 5 p.m. ET 9/15/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2015.
Nathaniel J. Davis, Sr.,
Deputy Secretary

[FR Doc. 2015-22806 Filed 9-9-15; 8:45 am]

BILLING CODE 6717-01-P